DEPARTMENT OF THE INTERIOR

Bureau of Land Management

[LLUTW01100-12200000-AL0000]

Notice of Closure, Target Shooting Public Safety Closure on the Lake Mountains in Utah County, UT

AGENCY: Bureau of Land Management, Department of the Interior.

ACTION: Notice of Closure.

SUMMARY: The Bureau of Land Management (BLM), pursuant to their regulations, has closed approximately 900 acres of public land on the Lake Mountains in Utah County, Utah, to recreational target shooting to protect public safety. This closure does not restrict other public activities or access to the Lake Mountains area.

DATES: This target shooting closure within the described area will remain in effect no longer than two years from December 19, 2012, or earlier if a land use planning decision is completed.

FOR FURTHER INFORMATION CONTACT: Kevin Oliver, District Manager, BLM West Desert District Office; 2370 South 2300 West, Salt Lake City, UT 84119; Phone: 801-977-4300; email: blm_ut_sl_mail@blm.gov. Persons who use a telecommunications device for the deaf (TDD) may call the Federal Information Relay Service (FIRS) at 1-800-877-8339 to contact the above individuals during normal business hours. The FIRS is available 24 hours a day, seven days a week, to leave a message or question with the above individuals. You will receive a reply during normal hours.

SUPPLEMENTARY INFORMATION: This temporary closure affects public lands on the Lake Mountains, Utah County, Utah. The legal description of the affected public lands is:

Salt Lake Meridian

T. 7 S., R. 1 E.,

Sec. 6, lot 1, NE¼SE¼;

Sec. 7, lot 1.

T. 7 S., R. 1 W.,

Sec. 13, lots 2, 11, 12, and portions of lots 3, 4, 9, and 10, and the SE¼SW¼ lying east of the 345 KV power line*;

Sec. 24, lots 1-3, 10, 13, 17, 18, and portions of lots 11 and 12, and the NW¼ lying east of the 345 KV power line*;

Sec. 26, NW¼NE¼, NW¼SW¼, and portions of the N½NW¼ lying east of the 345 KV power line.*

* BLM right-of-way UTU 0115794.

The area described contains approximately 900 acres more or less.

The Salt Lake Field Office hereby closes a portion of the Lake Mountains, Utah County, Utah to all target shooting for public safety reasons. The area will be closed under the authority of 43CFR 8364.1—Closures and Restrictions and in conformance with IM 2010-028 Change 1. Due to unsafe conditions and danger to the public, it is imperative for the BLM to close the area immediately. The proposed target shooting closure would affect approximately 900 acres on the lower slopes of the southeast bench of the Lake Mountains. The closure would be in effect for two years or until an analysis of impacts is completed through the land use planning process. The Lake Mountains are a small mountain range located on the west side of Utah Lake. The range is only about 8 miles wide and 12 miles long. The city of Saratoga Springs borders the north side of the mountains and the city of Eagle Mountain is along the west side. State Highway 68 runs along the eastern bench of the Lake Mountains; it is a main arterial road and is used by residential, agricultural and recreational traffic. There are a number of communications sites on the top of the mountain as well as a major power line that runs along a lower elevation ridge. There are private residences along the lake shore. Utah Lake is a popular area for recreationists, boaters, and anglers. A lake access point known as the Knolls is one of the few public access points on the western side and is located just off Highway 68. The Lake Mountains are comprised of a mixed ownership pattern and includes lands managed by the BLM, Utah School and Institutional Trust Lands Administration and several private property owners.

The area is primarily used by residents of Utah and southern Salt Lake counties for target shooting. The Lake Mountains receive about 4,000 visitors each month and on weekends; as many as 400 people concentrate into five areas, including other dispersed locations. The slopes of the Lake Mountains provide a natural backstop ideal for target shooting; however, some shooters choose to target practice in the relatively flat terrain on the lower slopes. Given the topography of the area and the number of people who visit it, the area subject to this Order is not conducive to safe target shooting. Target shooting in the area has resulted in near-misses of homes, automobiles, and people. Recently, bullets shot from BLM-administered land traveled approximately 2,000 feet to neighboring private land and into a home, just missing the homeowner. In another case, school children were in the line of fire of target shooters.

This closure would be made under the authority of the regulations in 43 CFR 8364.1 (a), which states: “To protect persons, property, and public lands and resources, the authorized officer may issue an order to close or restrict use of designated public lands.” The closure would be for target shooting only and would not affect legal hunting. Any person who violates the above restriction may be tried before a United States Magistrate and fined no more than $1,000, imprisoned for no more than 12 months, or both. Such violations may also be subject to the enhanced fines provided for by 18 U.S.C. 3571.

Authority: 43 CFR 8364.1.

Jenna Whitlock,
Associate State Director.

[FR Doc. 2012-30571 Filed 12-18-12; 8:45 am]

BILLING CODE 4310-DQ-P